FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 25, 2023.

A. Federal Reserve Bank of Dallas (Karen Smith, Director, Mergers & Acquisitions) 2200 N Pearl St., Dallas, Texas 75201. Comments can also be sent electronically to Comments.applications@dal.frb.org:

1. Jane Cheever Powell and Suzanne Cheever Goudge, individually and as co-voting person of the Jane Cheever Powell Trust under the Last Will and Testament of Charles E. Cheever, Sr., the Jane Cheever Powell Trust Under the Last Will & Testament of Elizabeth D. Cheever; and Cecelia Daley Cheever, individually and as trustee of the Cecelia Daley Cheever 2012 Trust; and Jean Mary Cheever, individually and as trustee of the Cece Cheever 2019 Stock Trust, the Jean Mary Cheever 2012 Trust, the Charles E. Cheever, III 2020 Family Trust, the Hope Eileen Cheever Descendant's Trust, and the Emmett Hunter Cheever Descendant's Trust; and Joan McKinney Cheever, individually, as trustee of the Joan McKinney Cheever 2012 Trust, Joan M. Cheever, and as co-trustee of the Joan M. Cheever Irrevocable Trust, and the Joan McKinney Cheever 2012 Trust; and Christopher Hance Cheever, individually and as trustee of the Christopher Hance Cheever 2012 Trust; all of San Antonio, Texas;

Helen Elizabeth Cheever, individually, and Jean Cheever, individually, as trustee of the Helen Elizabeth Cheever Descendant's Trust, all of San Diego, California; and as custodian of the Hope E. Cheever Texas Uniform Transfer to Minors Act (UTMA), and the Emmett Hunter Cheever Texas UTMA; and Hope Eileen Cheever, individually, all of Dallas, Texas;

Dennis C. Quinn, individually and as co-trustee of the Joan M. Cheever Irrevocable Trust, both of San Antonio, Texas; as trustee of the Elizabeth Daley Quinn Descendant's Trust, and Elizabeth Daley Quinn, individually, both of New York, New York; and as trustee of the Austin McKinney Quinn Descendant's Trust, and Austin McKinney Quinn, individually, both of Los Angeles, California;

Sara E. Goudge Brouillard, individually, as trustee of the Sara Goudge Brouillard Descendant's Trust, the John Cyril Goudge Descendant's Trust, the Suzanne Cheever Goudge 2012 Trust, the Katherine McKinney Goudge Descendant's Trust, the Carrie Goudge Dyer Descendant's Trust, and as custodian of the Minor Children A, B and C under the Texas Uniform Transfer to Minors Act, all of San Antonio, Texas;

Carrie Patricia Goudge Dyer, individually and as custodian of the Minor Children D, E and F, under the Texas UTMA, and Nick Dyer, all of Austin, Texas;

John Cyril Goudge, individually, as trustee of the Jean Cheever 2109 Stock Trust, and as custodian of the Minor Children G and H under the Texas UTMA; and James D. Goudge, Jeff Brouillard, and Laura M. Goudge, all individually, all of San Antonio, Texas;

Katherine McKinney Goudge Ankumah, individually and as custodian of the Minor Children I, and J under the Texas UTMA; and Kobi Ankumah, individually, all of Nashville, Tennessee;

Cheever Partners, as authorized signer to the following GST Trusts: the Charles E. Cheever, III GST Trust, both of New Canaan, Connecticut; the Suzanne C. Goudge GST Trust, the Cecelia Daley Cheever GST Trust, the Jean Mary Cheever GST Trust, the Joan M. Cheever GST Trust, and the Christopher Hance Cheever GST Trust, all of San Antonio, Texas; and

Charles Emmett Cheever, III, individually and trustee of the Charles Emmett Cheever, III 2012 Trust, and the Chris Cheever 2109 Stock Trust, all of San Antonio, Texas; and Regina Cheever, New Canaan, Connecticut; a group acting in concert to retain voting shares of Broadway Bancshares, Inc., and thereby indirectly retain voting shares of Broadway National Bank, both of San Antonio, Texas.

Board of Governors of the Federal Reserve System.
Ann E. Misback,
Secretary of the Board.

[FR Doc. 2023-07482 Filed 4-10-23; 8:45 am]

BILLING CODE P